DEPARTMENT OF THE INTERIOR

Fish and Wildlife Service

Proposed Safe Harbor Agreement for the California Red-Legged Frog and the California Tiger Salamander for Landowners Restoring and Enhancing Stock Ponds in Alameda County, CA

AGENCY: Fish and Wildlife Service, Interior.

ACTION: Notice of availability: receipt of application; request for comments.

SUMMARY: This notice advises the public that the Alameda County Resource Conservation District (Applicant) has applied to the U.S. Fish and Wildlife Service (Service) for an enhancement of survival permit pursuant to Section 10(a)(1)(A) of the Endangered Species Act of 1973, as amended (Act). The permit application includes a proposed Safe Harbor Agreement (Agreement) between the Applicant and the Service for the threatened California red-legged frog (CRLF) (Rana aurora draytonii) and the California tiger salamander (CTS) (Ambystoma californiense). The Agreement and permit application are available for public comment.

DATES: Written comments should be received on or before October 5, 2006.

ADDRESSES: Comments should be addressed to Shannon Holbrook, U.S. Fish and Wildlife Service, Sacramento Fish and Wildlife Office, 2800 Cottage Way, W-2605, Sacramento, CA 95825, or sent by facsimile to (916) 414-6712.

FOR FURTHER INFORMATION CONTACT: Ms. Shannon Holbrook, Sacramento Fish and Wildlife Office (see ADDRESSES); telephone: (916) 414-6600.

SUPPLEMENTARY INFORMATION:

Availability of Documents

You may obtain copies of the documents for review by contacting the individual named above. You may also make an appointment to view the documents at the above address during normal business hours.

Background

Under a Safe Harbor Agreement, participating landowners voluntarily undertake management activities on their property to enhance, restore, or maintain habitat benefiting species listed under the Act. Safe Harbor Agreements, and the subsequent enhancement of survival permits that are issued pursuant to Section 10(a)(1)(A) of the Act (16 U.S.C. 1531 et seq.), encourage private and other non-Federal property owners to implement conservation efforts for listed species by assuring property owners that they will not be subjected to increased property use restrictions as a result of their efforts to attract listed species to their property, or to increase the numbers or distribution of listed species already on their property. Application requirements and issuance criteria for enhancement of survival permits through Safe Harbor Agreements are found in 50 CFR 17.22(c).

We have worked with the Applicant to develop this proposed Agreement for the conservation of the CRLF and CTS on private ranches in Alameda County, California. The properties subject to this Agreement consist of those non-Federal lands in Alameda County, California, on which existing stock ponds will be restored and maintained pursuant to a written agreement between the Natural Resources Conservation Service (NRCS) and the landowner.

This Agreement provides for the creation of a Program in which private landowners (Program Participants), who enter into written cooperative agreements with the Applicant pursuant to the terms of the Agreement, will restore, enhance, and maintain stock ponds in ways beneficial to the CRLF and CTS. Such cooperative agreements will be for a term of at least 10 years. The proposed duration of the Agreement is 50 years, and the proposed term of the enhancement of survival permit is 50 years. The Agreement fully describes the proposed Program, management activities to be undertaken by Program Participants, and the conservation benefits expected to be gained for the CRLF and CTS.

Upon approval of this Agreement, and consistent with the Service's Safe Harbor Policy published in the Federal Register on June 17, 1999 (64 FR 32717), the Service would issue a permit to the Applicants authorizing take of CRLF and CTS incidental to the implementation of the management activities specified in the cooperative agreements, incidental to other lawful uses of the properties, including normal, routine land management activities, or to return to pre-Agreement conditions.

To benefit the CRLF and CTS, Program Participants will agree to undertake management activities specified in their written cooperative agreements with the Applicant. Such management activities shall provide for the restoration and maintenance of an existing stock pond. These practices have been designed to achieve a high degree of likelihood that the pond will retain water through the rearing season of the CRLF and CTS so as to allow metamorphosis of their larvae, vegetation and grazing management appropriate to the conservation needs of the species, effective control of non-native predators, and related measures. The object of such measures is to enhance the potential of existing stock ponds to serve as effective breeding sites for the CRLF and CTS while simultaneously providing water for use by livestock. Take of CRLF or CTS incidental to the aforementioned activities is unlikely; however, it is possible that in the course of such activities or other lawful activities on the enrolled property, a Program Participant could incidentally take a CRLF or CTS, thereby necessitating take authority under the permit.

Both the CRLF and CTS rely on a variety of habitats for various stages of their life cycle, including pond and riparian habitat, upland habitat, and moist refuges. Pre-Agreement conditions (baseline), consisting of the size of existing ponds and riparian habitat, acreage of appropriate upland habitat and a characterization and location of moist refuges associated with ponds, shall be determined for each enrolled property as provided in the Agreement. In order to receive the above assurances regarding incidental take of CRLF and CTS, a Program Participant must maintain baseline on the enrolled property. The Agreement and requested enhancement of survival permit will allow each Program Participant to return to baseline conditions after the end of the term of the 10-year cooperative agreement and prior to the expiration of the 50-year permit, if so desired by the Applicants.

Consistent with the Service's Safe Harbor Policy (64 FR 32717 et seq.), the proposed Agreement and requested permit also extend certain assurances to those lands that are immediately adjacent to lands on which restoration activities occur. To receive such assurances, a neighboring landowner must enter into a written agreement with the Service that specifies the baseline conditions on the property. This written agreement remains in effect until the expiration of the 50-year Agreement between the Applicant and the Service and requires the neighboring landowner to maintain the baseline conditions established at the start of the agreement.

Public Review and Comments

The Service has made a preliminary determination that the proposed Agreement and permit application are eligible for categorical exclusion under the National Environmental Policy Act of 1969 (NEPA). We explain the basis for this determination in an Environmental Action Statement, which is also available for public review.

Individuals wishing copies of the permit application, copies of our preliminary Environmental Action Statement, and/or copies of the full text of the Agreement, including a map of the proposed permit area, references, and legal descriptions of the proposed permit area, should contact the office and personnel listed in the ADDRESSES section above.

If you wish to comment on the permit application or the Agreement, you may submit your comments to the address listed in the ADDRESSES section of this document. Comments and materials received, including names and addresses of respondents, will be available for public review, by appointment, during normal business hours at the address in the ADDRESSES section above and will become part of the public record, pursuant to section 10(c) of the Act. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety.

We will evaluate this permit application, associated documents, and comments submitted thereon to determine whether the permit application meets the requirements of section 10(a) of the Act and NEPA regulations. If we determine that the requirements are met, we will sign the proposed Agreement and issue an enhancement of survival permit under section 10(a)(1)(A) of the Act to the Applicants for take of the CRLF and CTS incidental to otherwise lawful activities in accordance with the terms of the Agreement. We will not make our final decision until after the end of the 30-day comment period and will fully consider all comments received during the comment period.

The Service provides this notice pursuant to section 10(c) of the Act and pursuant to implementing regulations for NEPA (40 CFR 1506.6).

Susan Moore,
Acting Field Supervisor, Sacramento Fish and Wildlife Office, Sacramento, California.

[FR Doc. E6-14630 Filed 9-1-06; 8:45 am]

BILLING CODE 4310-55-P